DEPARTMENT OF THE INTERIOR

Final General Management Plan/Environmental Impact Statement, Whitman Mission National Historic Site, Washington

AGENCY: National Park Service, Interior.

ACTION: Notice of Availability of Final Environmental Impact Statement (FEIS).

SUMMARY: The National Park Service (NPS) announces the availability of a Final General Management Plan/Environmental Impact Statement (GMP/EIS) for Whitman Mission National Historic Site, Washington. The final GMP/EIS presents the proposed action for management of the historic site for the next 15 years. The proposed action best satisfies the historic site and NPS mission, as well as the site's long-term management objectives.

Approximately 250 copies of the draft GMP/EIS were distributed to the public. Two public workshops on the draft were held in Walla Walla, WA, and Mission, OR. The Environmental Protection Agency's notice of availability published in the Federal Register started the review and comment period on September 3, 1999. All comments received at the park by November 26, 1999, were reviewed and considered by the NPS in the preparation of the final GMP/EIS.

This document is in an abbreviated format and contains a series of corrections and revisions describing changes to the text of the draft, copies of substantive comment letters received from all agencies and organizations, and responses to all substantive comments. Readers may find it convenient to refer to the draft GMP/EIS while reviewing this abbreviated final document.

SUPPLEMENTARY INFORMATION: The no-action period on this final GMP/EIS will expire 30 days after the Environmental Protection Agency has accepted the document and published a notice of availability in the Federal Register. Following the no-action period, a record of decision to implement the proposed action will be signed. All who submitted substantive comments on the draft GMP/EIS will receive a copy of the final. In addition, the document has been placed on the NPS website at www.nps.gov/whmi/gmp.htm. Public reading copies of the final GMP/EIS will be available for review at the following locations: Office of Public Affairs, National Park Service, 1849 C St., NW, Washington, DC 20240; Whitman Mission National Historic Site headquarters, 328 Whitman Mission Rd., Walla Walla, WA 99362, and at public libraries in the Walla Walla area.

Dated: June 8, 2000.
William C. Walters,
Deputy Regional Director, Pacific West Region.

[FR Doc. 00-15456 Filed 6-19-00; 8:45 am]

BILLING CODE 4310-70-P